DEPARTMENT OF THE INTERIOR

Fish and Wildlife Service

[FWS-R2-ES-2010-N016; 20124-1113-0000-C2]

Endangered and Threatened Wildlife and Plants; Rio Grande Silvery Minnow (Hybognathus amarus) Recovery Plan, First Revision

AGENCY: Fish and Wildlife Service, Interior.

ACTION: Notice of document availability: revised recovery plan.

SUMMARY: We, the U.S. Fish and Wildlife Service (Service), announce the availability of the Rio Grande Silvery Minnow (Hybognathus amarus) Recovery Plan, First Revision. The Rio Grande silvery minnow was listed as endangered in 1994, its first recovery plan was approved in 1999, and critical habitat was designated in 2003.

ADDRESSES: An electronic copy of the recovery plan can be obtained from our website at http://www.fws.gov/southwest/es/Library/. Copies of the recovery plan are also available by request. To obtain a copy, contact Jennifer Bachus by U.S. mail at U.S. Fish and Wildlife Service, New Mexico Ecological Services Field Office, 2105 Osuna Road, New Mexico 87113; by phone at (505) 761-4714; or by e-mail at Jennifer_Bachus@fws.gov.

FOR FURTHER INFORMATION CONTACT: Jennifer Bachus (see ADDRESSES).

SUPPLEMENTARY INFORMATION:

Background

The Rio Grande silvery minnow was listed as federally endangered in 1994 (July 20, 1994; 59 FR 36988) and critical habitat was designated in 2003 (February 19, 2003; 68 FR 8087). The species was extirpated from about 93 percent of its historical range, currently persisting in only one 280-kilometer (km) (174-mile (mi)) reach of the Rio Grande River in New Mexico, downstream of Cochiti Dam to the headwaters of Elephant Butte Reservoir. In December 2008, silvery minnows were introduced into the Rio Grande River near Big Bend, Texas, as a nonessential, experimental population under section 10(j) of the ESA (December 8, 2008; 73 FR 74357).

Throughout much of its historic range, the decline of the Rio Grande silvery minnow is attributed primarily to destruction and modification of its habitat due to dewatering and diversion of water, water impoundment, and modification of the river (channelization). Competition and predation by introduced non-native species, water quality degradation, and other factors also have contributed to its decline.

The Endangered Species Act of 1973 (Act), as amended (16 U.S.C. 1531 et seq.), requires the development of recovery plans for listed species, unless such a plan would not promote the conservation of a particular species. Recovery plans help guide the recovery effort by describing actions considered necessary for the conservation of the species, establishing criteria for downlisting or delisting, and estimating time and costs for implementing the recovery measures. The recovery criteria form the basis from which to gauge the species' recovery and subsequent risk of extinction.

The Rio Grande Silvery Minnow Recovery Plan includes updated scientific information about the species and provides criteria and actions needed to downlist and delist the species. We may consider downlisting the Rio Grande silvery minnow from endangered to threatened when three populations (including a stable middle Rio Grande population and at least two additional populations that are self-sustaining) have been established within the historical range of the species and have been maintained for at least five years, as well as habitat sufficient to support three such populations. We may consider delisting the species when three self-sustaining populations have been established within the historical range of the species and have been maintained for at least 10 years, as well as habitat sufficient to support three such populations. The revised recovery criteria provide objective measures by which populations of silvery minnow is determined to be self-sustaining.

The Rio Grande Silvery Minnow Recovery Plan also describes actions needed to recover the Rio Grande silvery minnow. These include developing a thorough knowledge of the Rio Grande silvery minnow's life history, ecology, and behavior, and the current status of its habitat. It is also necessary to restore, protect, and alter habitats as necessary to alleviate threats to the Rio Grande silvery minnow, to ensure the survival of the species in its current habitat, and to reestablish the species in suitable habitats within its historical range. By implementation and maintaining an adaptive management program, appropriate research and management activities will be implemented in a timely manner to achieve recovery of the Rio Grande silvery minnow. Lastly, recovery actions also include designing and implementing public awareness and education programs about this species.

Section 4(f) of the Act requires that we provide public notice and an opportunity for public review and comment during recovery plan development. In fulfillment of this requirement, we made the draft revision of the recovery plan for Rio Grande silvery minnow available for public comment from January 18, 2007, through April 18, 2007 (January 18, 2007; 72 FR 2301). We also conducted peer review at this time. Revised recovery criteria were developed in response to public and peer review comments on the original draft plan. We released these revised criteria for a second round of public comment from April 9, 2009, through May 26, 2009 (April 9, 2009; 74 FR 16232). We also conducted additional peer review. After consideration of comments received during both public and peer review comment periods, the recovery plan has been updated and finalized.

Authority: The authority for this action is section 4(f) of the Endangered Species Act, 16 U.S.C. 1533(f).

Dated: January 15, 2010.
Benjamin N. Tuggle,
Regional Director, Region 2.

[FR Doc. 2010-3343 Filed 2-19-10; 8:45 am]

BILLING CODE 4310-55-P